DEPARTMENT OF TRANSPORTATION

Surface Transportation Board

[Docket No. FD 35528]

CSX Transportation, Inc.; Trackage Rights Exemption; The Indiana Rail Road Company

Pursuant to a supplemental trackage rights agreement (Supplemental Agreement No. 1),¹ The Indiana Rail Road Company (INRD) has agreed to grant overhead trackage rights to CSX Transportation, Inc. (CSXT) ² over approximately 3.5 miles of rail line in Terre Haute, Vigo County, Ind., as follows: Between Belt Junction (milepost 181.7) and the south end of INRD's Martin Siding (milepost 185.2), including a right of entry and exit at the connections of INRD with CSXT at Belt Junction and Spring Hill (milepost 182.7).

¹ A draft of the agreement was included with the notice of exemption. The parties state that, upon execution of the agreement, an executed copy will be filed with the Board.

² CSXT controls INRD. CSX Corp.—Control—Ind. Rail Rd., FD 32892 (STB served Nov. 7, 1996).

The new trackage rights agreement extends the trackage rights that INRD had previously granted to CSXT ³ to operate over INRD's Chicago Subdivision, between the connection of CSXT and INRD trackage at ConMil at approximately INRD milepost 175.5 and the connection of CSXT and INRD trackage at approximately INRD milepost 181.7, a distance of 6.2 miles. The new trackage rights will allow CSXT's crews to deliver trains to and receive trains from INRD on INRD's newly constructed Martin Siding south of Belt Junction.

³ See CSX Transp., Inc.—Trackage Rights Exemption—Ind. Rail Rd., FD 35058 (STB served July 13, 2007).

The transaction may be consummated on June 30, 2011, the effective date of the exemption (30 days after the exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by June 23, 2011 (at least 7 days before the exemption becomes effective).

An original and 10 copies of all pleadings, referring to Docket No. FD 35528, must be filed with the Surface Transportation Board, 395 E Street, SW., Washington, DC 20423-0001. In addition, a copy of each pleading must be served on Louis E. Gitomer, 600 Baltimore Ave., Suite 301, Towson, MD 21204.

Board decisions and notices are available on our Web site at “http://www.stb.dot.gov.”

Decided: June 8, 2011.
By the Board.
Rachel D. Campbell,
Director, Office of Proceedings.
Jeffrey Herzig,
Clearance Clerk.

[FR Doc. 2011-14640 Filed 6-15-11; 8:45 am]

BILLING CODE 4915-01-P